DEPARTMENT OF HOMELAND SECURITY

Coast Guard

33 CFR Part 117

[Docket No. USCG-2017-0137]

Drawbridge Operation Regulation; Shark River, Avon, NJ

AGENCY: Coast Guard, DHS.

ACTION: Notice of deviation from drawbridge regulation.

SUMMARY: The Coast Guard has issued a temporary deviation from the operating schedule that governs the NJ Transit Railroad Bridge across Shark River (South Channel), mile 0.9, at Avon, NJ. This deviation is necessary to facilitate testing and replacement of the drive motor. This deviation allows the bridge to remain in the closed-to-navigation position.

DATES: This deviation is effective from 10 p.m. on March 24, 2017, through 6 a.m. on March 25, 2017.

ADDRESSES: The docket for this deviation, [USCG-2017-0137] is available at http://www.regulations.gov. Type the docket number in the “SEARCH” box and click “SEARCH”. Click on Open Docket Folder on the line associated with this deviation.

FOR FURTHER INFORMATION CONTACT: If you have questions on this temporary deviation, call or email Mr. Martin Bridges, Bridge Administration Branch Fifth District, Coast Guard, telephone 757-398-6422, email Martin.A.Bridges@uscg.mil.

SUPPLEMENTARY INFORMATION: The New Jersey Transit, who owns and operates the NJ Transit Railroad Bridge across the Shark River, mile 0.9, at Avon, NJ, has requested a temporary deviation from the current operating regulation set out in 33 CFR 117.751, to facilitate replacement of the drive motor on the vertical span of the bridge.

Under this temporary deviation, the bridge will remain in the closed-to-navigation position from 10 p.m., March 24, 2017, to 6 a.m., March 25, 2017. The drawbridge is a single span which has a vertical clearance in the closed-to-navigation position of 9 feet above mean high water.

The NJ Transit Railroad Bridge is used by recreational vessels, tug and barge traffic, fishing vessels, and small commercial vessels. The Coast Guard has carefully considered the nature and volume of vessel traffic on the waterway in publishing this temporary deviation.

Vessels able to pass through the bridge in the closed position may do so at anytime. The bridge span will not be able to open in case of an emergency and there is no immediate alternate route for vessels to pass. The Coast Guard will also inform the users of the waterway through our Local Notice and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: March 6, 2017.
Hal R. Pitts,
Bridge Program Manager, Fifth Coast Guard District.

[FR Doc. 2017-05648 Filed 3-21-17; 8:45 am]

BILLING CODE 9110-04-P